DEPARTMENT OF AGRICULTURE

Food and Nutrition Service

7 CFR Parts 271, 272, 273, 274, 275, 276, 277, 278, 279, 280, 281, 282, 283, and 285

[FNS 2011-0008]

RIN 0584-AD87

Supplemental Nutrition Assistance Program (SNAP): Eligibility, Certification, and Employment and Training Provisions of the Food, Conservation and Energy Act of 2008; Extension of Effective Dates and Comment Period

AGENCY: Food and Nutrition Service, USDA.

ACTION: Final rule and interim final rule; delay of effective dates and extension of comment period.

SUMMARY: Consistent with the memorandum of January 20, 2017, to the heads of executive departments and agencies from the Assistant to the President and Chief of Staff entitled “Regulatory Freeze Pending Review”, the Department of Agriculture's Food and Nutrition Service (FNS) is extending the effective dates and comment period for this rule, which was published January 6, 2017 and implements provisions of the Food, Conservation and Energy Act of 2008 (FCEA) affecting the eligibility, benefits, certification, and employment and training (E&T) requirements for applicant or participant households in the Supplemental Nutrition Assistance Program (SNAP).

DATES:

Effective dates: The effective date for the final rule published on January 6, 2017 (82 FR 2010) is delayed to May 8, 2017. The effective date for the amendments to 7 CFR 273.11(e) and 273.11(f), which were issued as an interim final rule, is delayed to June 5, 2017. The effective date for the amendments to 7 CFR 273.2(c)(1)(v) is delayed to March 9, 2018.

Comment date: FNS will consider comments from the public on the amendments to 7 CFR 273.11(e) and 273.11(f). Comments must be received at one of the addresses provided below. The comment date has been extended from March 7, 2017, to April 6, 2017.

ADDRESSES: FNS invites interested persons to submit comments on the interim rule provisions at 7 CFR 273.11(e) and 273.11(f). Comments may be submitted by one of the following methods:

• Federal e-Rulemaking Portal: Go to http://www.regulations.gov. Preferred method; follow the online instructions for submitting comments on docket FNS 2011-0008.

• Fax: Submit comments by facsimile transmission to: Sasha Gersten-Paal, Certification Policy Branch, Fax number 703-305-2486.

• Mail: Comments should be addressed to Sasha Gersten-Paal, Certification Policy Branch, 3101 Park Center Drive, Alexandria, VA 22302.

• Hand Delivery or Courier: Deliver comments to Sasha Gersten-Paal, Certification Policy Branch, 3101 Park Center Drive, Alexandria, VA 22302, Monday-Friday, 8:30 a.m.-5:00 p.m.

All comments submitted in response to the interim rule provision will be included in the record and will be made available to the public. Please be advised that the substance of the comments and the identity of the individuals or entities submitting the comments will be subject to public disclosure. FNS will make the comments publicly available on the Internet via http://www.regulations.gov.

FOR FURTHER INFORMATION CONTACT: Sasha Gersten-Paal, Branch Chief, Certification Policy Branch, Program Development Division, Food and Nutrition Service (FNS), 3101 Park Center Drive, Room 810, Alexandria, Virginia, 22302, (703) 305-2507, sasha.gersten-paal@fns.usda.gov.

SUPPLEMENTARY INFORMATION: Consistent with the memorandum of January 20, 2017, to the heads of executive departments and agencies from the Assistant to the President and Chief of Staff entitle “regulatory Freeze Pending Review”, FNS is delaying the effective dates by 60 days and extending the comment period by 30 days for this rule as noted under the DATES section to ensure that the public has sufficient time to review and comment on the rule.

The January 6, 2017 rule amends the SNAP regulations to: Exclude military combat pay from the income of SNAP households; raise the minimum standard deduction and the minimum benefit for small households; eliminate the cap on the deduction for dependent care expenses; index resource limits to inflation; exclude retirement and education accounts from countable resources; clarify reporting requirements under simplified reporting; permit States to provide transitional benefits to households leaving State-funded cash assistance programs; allow States to establish telephonic and gestured signature systems; permit States to use E&T funds to provide job retention services; and update requirements regarding the E&T funding cycle. These provisions are intended to more accurately reflect needs, reduce barriers to participation, and improve efficiency in the administration of the program. This rule also replaces outdated language in SNAP certification regulations with the new program name and updates procedures for accessing SNAP benefits in drug and alcohol treatment centers and group living arrangements with use of electronic benefit transfer (EBT) cards. This rule provides States with regulatory options for conducting telephone interviews in lieu of face-to-face interviews and for averaging student work hours.

Finally, the Department issued a portion of the rule as an interim final rule (with a request for additional comment) that will require that drug and alcohol treatment and group living arrangements (GLA) centers to: Submit completed change report forms to the State agency when a resident leaves the center; notify the State agency within 5 days when the center is not able to provide the resident with their EBT card at departure; and return EBT cards to residents with pro-rated benefits based up on the date of their departure.

To the extent that 5 U.S.C. 553(b)(A) applies to this action, it is exempt from notice and comment rulemaking for good cause and for reasons cited above, FNS finds that notice and solicitation of comment regarding the brief extension of the effective dates and comment period are impracticable, unnecessary, or contrary to the public interest pursuant to 5 U.S.C. 553(b)(B). FNS believes that affected parties need to be informed as soon as possible of the extensions and their length.

Dated: February 8, 2017.
Jessica Shahin,
Acting Administrator, Food and Nutrition Service.

[FR Doc. 2017-03337 Filed 2-17-17; 8:45 am]

BILLING CODE 3410-30-P